DEPARTMENT OF TRANSPORTATION

Federal Aviation Administration

Fifteenth Plenary Meeting, RTCA Special Committee 205/EUROCAE WG 71: Software Considerations in Aeronautical Systems

AGENCY: Federal Aviation Administration (FAA), DOT.

ACTION: Notice of RTCA Special Committee 205/EUROCAE WG 71: Software Considerations in Aeronautical Systems meeting.

SUMMARY: The FAA is issuing this notice to advise the public of a meeting of RTCA Special Committee 205/EUROCAE WG 71: Software Considerations in Aeronautical Systems.

DATES: The meeting will be held November 8-12, 2010.

ADDRESSES: The meeting will be held at The Boeing Company, 3855 Lakewood Blvd., Long Beach, California 90808, United States of America.

FOR FURTHER INFORMATION CONTACT: The Secretaries need a complete list of proposed attendees no later than October 31, 2010 in order to assist Boeing with their logistics. Boeing Security has indicated that they need at least one week's notice in order to clear attendees. Please register your intention to attend the meeting and details here at https://www.faaconsultants.com/SC205/Registration/AddRegistration.asp. RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 205: EUROCAE WG 71: Software Considerations in Aeronautical Systems meeting. The agenda will include:

Day 1—Monday November 8, 2010

• 7:30 a.m.—Registration

• 8 a.m.—Facilities Review

• Chair's Introductory Remarks

• Recognition of the FAA Federal and EASA Representatives

• Review of Meeting Agenda and Agreement of Previous Minutes

• 8:30 a.m.—Acceptance of Documents

• ED-12B/DO-178B, Software Considerations in Airborne Systems and Equipment Certification

• ED-94B/DO-248B, Final Annual Report for Clarification of ED-94B/DO-178B “Software Considerations In Airborne Systems And Equipment Certification”

• ED-109/DO-278, Guidelines for CNS/ATM Systems Software Integrity Assurance

• 10 a.m.—Break

• 10:15 a.m.—278a Text Approval

• 12 p.m.—Lunch

• 1 p.m.—MB Text Approval

• 3 p.m.—Break

• 3:15 p.m.—Work Teams 178/278

• 5:30 p.m.—Close of Day

• 8 p.m.—Post Changes to the Web/Read

Day 2—Tuesday, November 9, 2010

• 7:30 a.m.—Mandatory Reading Session

• 8 a.m.—Text Approval

• 10 a.m.—Break

• 10:15 a.m.—Tools Text Approval

• 12 p.m.—Lunch

• 1 p.m.—FM Text Approval

• 3 p.m.—Break

• 3:15 p.m.—Work Teams

• 8 p.m.—Post Changes to the Web/Read

Day 3—Wednesday, November 10, 2010

• 7:30 a.m.—Mandatory Reading Session

• 8 a.m.—Text Approval

• 10 a.m.—Break

• 10:15 a.m.—OO Text Approval

• 12 p.m.—Lunch

• 1 p.m.—248 Text Approval

• 3 p.m.—Break

• 3:15 p.m.—Work Teams

• 6 p.m.—Social Event

• 8 p.m.—Post Changes to the Web/Read

Day 4—Thursday, November 11, 2010

• 7:30 a.m.—Mandatory Reading Session

• 8 a.m.—Text Approval

• 10 a.m.—Break

• 10:15 a.m.—Work Teams

• 12 p.m.—Lunch

• 1 p.m.—Text Approval

• 3 p.m.—Break

• 3:15 p.m.—Work Teams

• 8 p.m.—Post Changes to the Web/Read

Day 5—Friday, November 12, 2010

• 7:30 a.m.—Mandatory Reading Session

• 8 a.m.—Text Approval

• 10 a.m.—Break

• 10:15 a.m.—Text Approval

• 12:45 p.m.—Meeting Evaluation (Round Robin)

• 1 p.m.—Closing Remarks

• 1-4 p.m.—Editorial and Executive Committee Meets (Closed Session)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 19, 2010.
Robert L. Bostiga,
RTCA Advisory Committee.

[FR Doc. 2010-26946 Filed 10-25-10; 8:45 am]

BILLING CODE 4910-13-P